DEPARTMENT OF HEALTH AND HUMAN SERVICES

Office of the Secretary

Findings of Research Misconduct; Correction

AGENCY: Office of the Secretary, HHS

ACTION: Correction of notice.

SUMMARY: This document corrects an error that appeared in the notice published in the February 9, 2026, Federal Register entitled “Findings of Research Misconduct.”

DATES:

Effective Date: February 24, 2026.

Applicability Date: The correction notice is applicable for the Findings of Research Misconduct notice published on February 9, 2026.

FOR FURTHER INFORMATION CONTACT: Dr. Anuj Sharma or Ms. Karen Gorirossi at 240-453-8800.

SUPPLEMENTARY INFORMATION:

I. Background

In FR Doc. 2026-02505 of February 9, 2026 (91 FR 5774-5776), there was a typographical error involving a date in one paragraph on page 5775. The error is identified and corrected in the Correction of Errors section below.

II. Correction of Errors

In FR Doc. 2025-02505 of February 9, 2026 (91 FR 5774-5776), due to a typographical error, make the following correction:

1. On page 5775, second column, fifth paragraph, line 1, in FR Doc. 2026-02505, change “December 8, 2024” to “December 8, 2025.”

Dated: February 19, 2026.
Sheila R. Garrity,
Director, Office of Research Integrity, Office of the Assistant Secretary for Health.

[FR Doc. 2026-03593 Filed 2-23-26; 8:45 am]

BILLING CODE 4150-31-P